DEPARTMENT OF COMMERCE

Bureau of Industry and Security

Proposed Information Collection; Comment Request; Licensing Exemptions and Exclusions

AGENCY: Bureau of Industry and Security.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before February 12, 2010.

ADDRESSES: Direct all written comments to Diana Hynek, Departmental Paperwork Clearance Officer, Department of Commerce, Room 7845, 14th and Constitution Avenue, NW., Washington, DC 20230 (or via the Internet at dHynek@doc.gov).

FOR FURTHER INFORMATION CONTACT: Requests for additional information or copies of the information collection instrument and instructions should be directed to Larry Hall, BIS ICB Liaison, (202)482-4895, lhall@bis.doc.gov.

SUPPLEMENTARY INFORMATION:

I. Abstract

This collection of information consolidates ten (10) existing BIS information collections into one new collection. These existing collections implement export licensing exceptions or exclusions in which an exporter may chose to exchange a requirement to obtain an individual validated export license with a reporting and/or recordkeeping requirement. All of these exclusions and exceptions are designed to reduce burden in collection, OMB Control No. 0694-0088, “Simplified Network Application Process & Multipurpose Application Form.” The existing collections authorities that will be consolidated are:

OMB 0694-0023 Written Assurances for Exports of Technical Data under License Exception TSR.

OMB 0694-0025 Short Supply—Unprocessed Western Red Cedar.

OMB 0694-0029 License Exception TMP: Special Requirements.

OMB 0694-0033 Humanitarian Donations.

OMB 0694-0086 Report of Sample Shipments of Chemical Weapons Precursors.

OMB 0694-0101 One-time Report For Foreign Software or Technology Eligible For De Minimis Exclusion.

OMB 0694-0104 Commercial Encryption Items under the Jurisdiction of the Department of Commerce.

OMB 0694-0106 Recordkeeping Requirements under the Wassenaar Arrangement.

OMB 0694-0123 Prior Notification of Exports under License Exception AGR.

OMB 0694-0133 Thermal Imaging Camera Reporting.

The consolidation of these collections will reduce the cost of renewing ten individual collections every three years and also make it easier to add additional exclusions and exceptions as revisions to an existing collection. BIS will discontinue the above collections when this new collection is approved.

II. Method of Collection

Submitted electronically or in paper form.

III. Data

OMB Control Number: None.

Form Number(s): None.

Type of Review: Regular submission.

Affected Public: Business or other for-profit organizations.

Estimated Number of Respondents: 2,121.

Estimated Time per Response: 15 minutes to 60 hours.

Estimated Total Annual Burden Hours: 14,576.

Estimated Total Annual Cost to Public: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: December 9, 2009.
Gwellnar Banks,
Management Analyst, Office of the Chief Information Officer.

[FR Doc. E9-29702 Filed 12-11-09; 8:45 am]

BILLING CODE 3510-33-P